NUCLEAR WASTE TECHNICAL REVIEW BOARD

Panel Meeting: July 10, 2000—Idaho Falls, Idaho: Discussions of Technical Issues Related to Managing and Transporting Spent Nuclear Fuel and High-Level Radioactive Waste; Presentations on Human Factors Involved in Transporting the Waste and Manufacturing Waste Casks; Update on Transportation Modal Study

Pursuant to its authority under section 5051 of Public Law 100-203, Nuclear Waste Policy Amendments Act of 1987, on Monday, July 10, 2000, the Nuclear Waste Technical Review Board's (Board) Panel on the Waste Management System will meet in Idaho Falls, Idaho, to discuss technical issues related to managing spent nuclear fuel and high-level radioactive waste, including human factors involved in transporting such waste. The Board is charged by Congress with reviewing the technical and scientific aspects of the Department of Energy's (DOE) civilian radioactive waste management program, including disposing of, packaging, and transporting the waste.

The panel meeting will be held at the Shilo Inn, 780 Lindsay Blvd., Idaho Falls, Idaho 83402-1822. The telephone number is (208) 523-0088; the fax number is (208) 522-7420. The meeting will start at 8 a.m. and will be open to the public.

An overview on transportation protocols by the DOE's Office of Civilian Radioactive Waste Management will begin the meeting. This discussion will be followed by updates on a transportation modal study by a representative of the Nuclear Regulatory Commission and on naval spent fuel disposal and transportation by a representative of the Naval Nuclear Propulsion Program. A representative of the Association of American Railroads (AAR) and a manufacturer of nuclear waste casks will then discuss human factors related to railroad operations and cask manufacturing. Next will be a presentation on performance specifications for transportation of spent fuel by another representative of the AAR. In midafternoon, the Panel will hear from state, local, and Tribal representatives on their views of technical issues related to transporting and managing spent nuclear fuel and high-level radioactive waste.

Time will be set aside at the end of the day for public comments. Those wanting to speak are encouraged to sign the “Public Comment Register” at the check-in table. A time limit may have to be set on individual remarks, but written comments of any length may be submitted for the record. Interested parties also will have the opportunity to submit questions in writing to the Board. As time permits, the questions will be answered by one or more Board members during the meeting.

A detailed agenda will be available approximately one week before the meeting. Copies of the agenda can be requested by telephone or obtained from the Board's Web site at www.nwtrb.gov. Transcripts of the meeting will be available on the Board's Web site, via e-mail, on computer disk, and on a library-loan basis in paper format from Davonya Barnes of the Board staff, beginning on August 7, 2000.

A block of rooms has been reserved at the Shilo Inn. When making a reservation, please state that you are attending the Nuclear Waste Technical Review Board meeting. For more information, contact the NWTRB, Karyn Severson, External Affairs, 2300 Clarendon Boulevard, Suite 1300, Arlington, Virginia 22201-3367; (tel) 703-235-4473, (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: May 31, 2000.
William D. Barnard,
Executive Director, Nuclear Waste Technical Review Board.

[FR Doc. 00-14103 Filed 6-5-00; 8:45 am]

BILLING CODE 6820-AM-M